FEDERAL COMMUNICATIONS COMMISSION

47 CFR Part 73

[DA 00-2333; MM Docket No. 98-214; RM-9353, RM-9568]

Radio Broadcasting Services; Rantoul, Gilman, Illinois

AGENCY: Federal Communications Commission.

ACTION: Final rule.

SUMMARY: The Commission, at the request of Saga Communications of Illinois, Inc., allots Channel 277A at Gilman, Illinois, as the community's first local aural transmission service. The request of petitioner, L. Topaz Enterprises, Inc., to allot Channel 277A to Rantoul, Illinois, as the community's third local FM service, is denied. See 63 FR 68719 (December 14, 1998). Channel 277A can be allotted to Gilman in compliance with the Commission's minimum distance separation requirements, with respect to domestic allotments, with a site restriction of 10 kilometers (6.2 miles) South, at coordinates 40-40-59 NL and 88-01-53 WL.

DATES: Effective November 27, 2000.

FOR FURTHER INFORMATION CONTACT: Victoria M. McCauley, Mass Media Bureau, (202) 418-2180.

SUPPLEMENTARY INFORMATION: This is a synopsis of the Commission's Report and Order, MM Docket No., adopted October 4, 2000, and released October 13, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [AMENDED]

2. Section 73.202(b) the FM Table of Allotments under Illinois is amended by adding Gilman, Channel 277A.

Federal Communications Commission.

John A. Karousos,
Chief, Allocations Branch, Policy and Rules Division, Mass Media Bureau.

[FR Doc. 00-27419 Filed 10-24-00; 8:45 am]

BILLING CODE 6712-01-P